DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance”)

Dated:February 11, 2015.
Roy E. Wright,
Deputy Associate Administrator for Mitigation, Department of Homeland Security, Federal Emergency Management Agency.

Community | Community map repository address
Yavapai County, Arizona, and Incorporated Areas Docket No.: FEMA-B-1351
Unincorporated Areas of Yavapai County | Yavapai County Flood Control, District Office, 1120 Commerce Drive, Prescott, AZ 86305.
Henry County, Indiana, and Incorporated Areas Docket No.: FEMA-B-1348
City of New Castle | City Hall, 227 North Main Street, New Castle, IN 47362.
Town of Dunreith | Henry County Planning Commission, 101 South Main Street, New Castle, IN 47362.
Town of Greensboro | Henry County Planning Commission, 101 South Main Street, New Castle, IN 47362.
Town of Kennard | Kennard Town Hall, 100 North Main Street, Kennard, IN 47351.
Town of Lewisville | Henry County Planning Commission, 101 South Main Street, New Castle, IN 47362.
Town of Middletown | Henry County Planning Commission, 101 South Main Street, New Castle, IN 47362.
Town of Mooreland | Henry County Planning Commission, 101 South Main Street, New Castle, IN 47362.
Unincorporated Areas of Henry County | Henry County Planning Commission, 101 South Main Street, New Castle, IN 47362.
Noble County, Indiana, and Incorporated Areas Docket No.: FEMA-B-1348
City of Kendallville | City Hall, 234 South Main Street, Kendallville, IN 46755.
City of Ligonier | City Hall, 301 South Cavin Street, Suite 2, Ligonier, IN 46767.
Town of Albion | Municipal Building, 211 East Park Drive, Albion, IN 4670.
Town of Avilla | Town Hall, 108 South Main Street, Avilla, IN 46710.
Town of Rome City | Town Hall, 402 Kelly Street, Rome City, IN 46784.
Unincorporated Areas of Noble County | Noble County South Complex, 2090 North State Road 9, Suite A, Albion, IN 46701.
Woodbury County, Iowa, and Incorporated Areas Docket No.: FEMA-B-1342
City of Sioux City | City Hall, 405 6th Street, Sioux City, Iowa 51102.
Unincorporated Areas of Woodbury County | Woodbury County Courthouse, Office of Planning and Zoning, 620 Douglas Street, Sioux City, Iowa 51101.
Northampton County, Virginia, and Incorporated Areas Docket No.: FEMA-B-1359
Town of Cape Charles | Town Hall, 2 Plum Street, Cape Charles, VA 23310.
Town of Cheriton | Northampton County Department of Planning and Zoning, 16404 Courthouse Road, Eastville, VA 23347.
Unincorporated Areas of Northampton County | Northampton County Department of Planning and Zoning, 16404 Courthouse Road, Eastville, VA 23347.

[FR Doc. 2015-03836 Filed 2-24-15; 8:45 am]

BILLING CODE 9110-12-P